DEPARTMENT OF TRANSPORTATION

Federal Aviation Administration

14 CFR Part 39

[Docket No. FAA-2017-0068; Directorate Identifier 2014-SW-076-AD]

RIN 2120-AA64

Airworthiness Directives; Romtex Anjou Aeronautique (Romtex) Torso Restraint Systems

AGENCY: Federal Aviation Administration (FAA), DOT.

ACTION: Notice of proposed rulemaking (NPRM).

SUMMARY: We propose to adopt a new airworthiness directive (AD) for Romtex torso restraint systems (restraint systems) installed on but not limited to Airbus Helicopters Model AS350B2, AS350B3, EC130B4, EC130T2, and AS355NP helicopters. This proposed AD would require replacing certain restraint system buckles. This proposed AD is prompted by a report of several restraint system buckle knobs breaking. The proposed actions are intended to correct an unsafe condition on these products.

DATES: We must receive comments on this proposed AD by April 18, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0068; or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed rule, contact Romtex Anjou Aeronautique, Strada Livezii nr. 98, 550042, Sibiu, Romania; telephone +40 269 243 918; email seatbelts@anjouaero.com. You may review the referenced service information at the FAA, Office of the Regional Counsel, Southwest Region, 10101 Hillwood Pkwy, Room 6N-321, Fort Worth, TX 76177.

FOR FURTHER INFORMATION CONTACT: David Hatfield, Aviation Safety Engineer, Safety Management Group, Rotorcraft Directorate, FAA, 10101 Hillwood Pkwy, Fort Worth, TX 76177; telephone (817) 222-5116; email david.hatfield@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2014-0279, dated December 19, 2014, to correct an unsafe condition for Romtex Model 358 torso restraint systems installed on Airbus Helicopters Model EC130T2, AS350B2, and AS350B3 helicopters. EASA advises that ruptures have occurred on the upper side (knob) of several rotary buckles installed on these restraint systems. EASA further states an investigation revealed the material used in two batches of the rotary buckle sub-assembly (buckle assembly) were altered by a supplier, resulting in a specification different from the approved design data. The EASA AD states that this condition could prevent the release of the restraint system straps as intended after an emergency landing. To address this unsafe condition, the EASA AD requires inspecting the buckle assembly for proper operation, replacing or marking as inoperative any buckle assembly that fails to release the straps before further flight, and replacing all buckle assemblies within 6 months. The EASA AD also prohibits installing these buckle assemblies on any aircraft.

FAA's Determination

These products have been approved by the aviation authority of Romania and are approved for operation in the United States. Pursuant to our bilateral agreement with Romania, EASA, its technical representative, has notified us of the unsafe condition described in its AD. We are proposing this AD because we evaluated all known relevant information and determined that an unsafe condition is likely to exist or develop on other products of the same type design.

Related Service Information Under 1 CFR Part 51

We reviewed Romtex Service Bulletin No. 358SB-14-101, Revision 1, dated December 12, 2014 (SB 358SB-14-101), which specifies removing from service certain part-numbered and serial-numbered buckle assemblies, consisting of the rotary buckle, belt, and attachment.

This service information is reasonably available because the interested parties have access to it through their normal course of business or by the means identified in the ADDRESSES section.

Proposed AD Requirements

For buckle assemblies with a part number and serial number identified in Romtex SB 358SB-14-101, this proposed AD would require, within 30 hours, inspecting the buckle assembly to determine whether the straps release. If the buckle fails to release the straps, this proposed AD would require marking the seat as inoperative and replacing the buckle assembly within 180 hours TIS. If the buckle releases the straps, this proposed AD would require replacing the buckle assembly within 180 hours. The proposed AD would also prohibit installing the affected buckle assemblies on any helicopter.

Differences Between This Proposed AD and the EASA AD

The EASA AD requires compliance within 30 days for the buckle inspection and 6 months for replacement; this proposed AD would require the inspection within 30 hours TIS and replacement within 180 hours TIS. The EASA AD does not apply to Model EC130B4 and AS355NP helicopters, and this proposed AD would.

Costs of Compliance

We estimate that this proposed AD would affect 893 helicopters of U.S. Registry.

We estimate that operators may incur the following costs in order to comply with this AD. At an average labor rate of $85 per hour, inspecting the buckle assembly would require about .5 work-hour, for a cost per helicopter of $43 and a total cost of $38,399 for the fleet. Replacing each buckle assembly would require about .5 work-hour, and required parts would cost $42,000, for a cost per helicopter of $42,043 and a total cost to U.S. operators of $37,544,399.

According to the Romtex service information, some of the costs of this proposed AD may be covered under warranty, thereby reducing the cost impact on affected individuals. We do not control warranty coverage by Romtex. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Romtex Anjou Aeronautique (Romtex) Torso Restraint Systems: Docket No. FAA-2017-0068; Directorate Identifier 2014-SW-076-AD.

(a) Applicability

This AD applies to Romtex torso restraint systems (restraint systems) with a rotary buckle sub-assembly (buckle assembly) with a part number and serial number as listed in the Effectivity, paragraph 1.2, of Romtex Service Bulletin No. 358SB-14-101, Revision 1, dated December 12, 2014. These restraint systems are installed on, but not limited to, Airbus Helicopters Model AS350B2, AS350B3, EC130B4, EC130T2, and AS355NP helicopters, certificated in any category.

(b) Unsafe Condition

This AD defines the unsafe condition as a broken buckle knob. This condition could result in a restraint system strap failing to release from the buckle, preventing occupants from exiting the helicopter during an emergency.

(c) Comments Due Date

We must receive comments by April 18, 2017.

(d) Compliance

You are responsible for performing each action required by this AD within the specified compliance time unless it has already been accomplished prior to that time.

(e) Required Actions

(1) Within 30 hours time-in-service (TIS), inspect each restraint system for correct operation.

(i) If the straps do not release from the buckle assembly, placard the seat as inoperative. Within 180 hours TIS, replace the buckle assembly with a buckle assembly not identified in paragraph (a) of this AD.

(ii) If the straps release, within 180 hours TIS, replace the buckle assembly with a buckle assembly not identified in paragraph (a) of this AD.

(2) Do not install a restraint system with a buckle assembly identified in paragraph (a) of this AD on any helicopter.

(f) Alternative Methods of Compliance (AMOCs)

(1) The Manager, Safety Management Group, FAA, may approve AMOCs for this AD. Send your proposal to: David Hatfield, Aviation Safety Engineer, Safety Management Group, Rotorcraft Directorate, FAA, 10101 Hillwood Pkwy, Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2014-0279, dated December 19, 2014. You may view the EASA AD on the Internet at http://www.regulations.gov in the AD Docket.

(h) Subject

Joint Aircraft Service Component (JASC) Code: 2500 Cabin Equipment/Furnishings.

Issued in Fort Worth, Texas, on January 24, 2017.
Lance T. Gant,
Manager, Rotorcraft Directorate, Aircraft Certification Service.

[FR Doc. 2017-02858 Filed 2-16-17; 8:45 am]

BILLING CODE 4910-13-P